DEPARTMENT OF COMMERCE

National Oceanic and Atmospheric Administration

50 CFR Parts 222 and 223

[I.D. 072301C]

Sea Turtle Conservation; Activities Related to Fishing

AGENCY: National Marine Fisheries Service (NMFS), National Oceanic and Atmospheric Administration (NOAA), Commerce.

ACTION: Notice of intent to prepare an Environmental Impact Statement (EIS); request for written comments.

SUMMARY: The National Marine Fisheries Service (NMFS) announces its intent to prepare an EIS to assess the potential impacts on the human environment of sea turtle interactions with fishing activities in the Atlantic and Gulf of Mexico. NMFS is responsible for promoting sea turtle conservation and for ensuring that priority tasks identified in Endangered Species Act (ESA) recovery plans are implemented.

DATES: Written comments on fisheries/sea turtle interactions or other information that NMFS should consider in preparing the EIS are requested and must be received on or before August 30, 2001.

ADDRESSES: Comments on the proposal to prepare an EIS and request for copies of the NMFS Strategy for Sea Turtle Conservation & Recovery in Relation to Atlantic Ocean and Gulf of Mexico Fisheries (Strategy) should be sent to: Chief, Endangered Species Division, Office of Protected Resources, NMFS, 1315 East-West Highway, Silver Spring, MD 20910. Comments may also be sent via fax to 301-713-0376. Comments will not be accepted if submitted via e-mail or the Internet. Notice of public meetings will be announced at a later date through notice in the Federal Register.

FOR FURTHER INFORMATION CONTACT: Barbara A. Schroeder (ph. 301 -713-1401, fax 301-713-0376, e-mail Barbara.Schroeder@noaa.gov).

SUPPLEMENTARY INFORMATION:

Background

All sea turtles that occur in U.S. waters are listed as either endangered or threatened under the Endangered Species Act (ESA). The Kemp's ridley (Lepidochelys kempii), leatherback (Dermochelys coriacea), and hawksbill (Eretmochelys imbricata) are listed as endangered. Loggerhead (Caretta caretta) and green (Chelonia mydas) turtles are listed as threatened, except for populations of green turtles in Florida and on the Pacific coast of Mexico, which are listed as endangered.

Under the ESA and its implementing regulations, taking sea turtles--even incidentally--is prohibited, with exceptions identified in 50 CFR 223.206. Reduction of the incidental capture of sea turtles as a result of fishery operations has been identified as a priority task in all (ESA) sea turtle recovery plans for the Atlantic, Gulf of Mexico, and Caribbean.

NMFS has implemented numerous recovery actions under the provisions of the ESA to recover sea turtles but has been criticized for lacking a comprehensive approach and ordered strategy for addressing incidental take in fisheries, which in many cases is not authorized under the ESA. As a more comprehensive step, NMFS developed a Strategy aimed at addressing the incidental capture of turtles in commercial and recreational fisheries (see ADDRESSES). The goals of the Strategy are to : (1) conserve and recover sea turtles, (2) authorize fishery takes consistent with ESA mandates, (3) increase effectiveness in management, and (4) prioritize fishery interaction concerns. Steps to achieve the goals include improving stock assessments and bycatch estimations, evaluating the significance of bycatch by gear type; and convening specialist groups to prepare plans for reducing take for gear types with significant take levels. NMFS is proposing to consider the environmental impacts of the Strategy through the National Environmental Policy Act (NEPA) process. Based on comments received through this notification, NMFS intends to schedule scoping meetings by December 2001 that would support preparation of an EIS.

Numerous fisheries have been implicated in the incidental capture of marine turtles along the Atlantic and Gulf of Mexico coasts. Both state and federally managed fisheries are involved as are fisheries operating outside of any state or Federal management plan. Several states have already been addressing incidental take of sea turtles in various fisheries and gear types, including Florida, Georgia, South Carolina, North Carolina, Texas, and Virginia. However, data available on the magnitude of the problem varies by fishery and area. NMFS believes the issue is not so much a specific target fishery problem but a gear problem. Certain types of gear are more prone to incidentally capturing turtles than others, depending on the way the gear is fished and the time and area fished.

NMFS is seeking input from the fishing industry, sea turtle experts, non-governmental organizations (NGOS), academia, state representatives, and the public on a gear-based assessment and management approach for the Atlantic and Gulf of Mexico fisheries and is requesting information on fisheries interactions with sea turtles as well as the identification of missing data and recommendations for further research. The purpose of this notice is to: (1) inform the interested public of the intent to prepare this EIS, and (2) request public participation and comments. Any consideration of gear modifications and/or changes to fishing practices in those fisheries of concern will be done through rulemaking or permitting according to the ESA or Magnuson-Stevens Fishery Conservation and Management Act and the Administrative Procedures Act.

Dated: July 26, 2001.
Wanda Cain,
Acting Deputy Director, Office Protected Resources, National Marine Fisheries Service.

[FR Doc. 01-19060 Filed 7-30-01; 8:45 am]

BILLING CODE 3510-22-S